DEPARTMENT OF HOUSING AND URBAN DEVELOPMENT

[Docket No. FR-4572-D-21]

Office of the Chief Financial Officer; Order of Succession

AGENCY: Office of the Chief Financial Officer, HUD.

ACTION: Notice of order of succession.

SUMMARY: In this notice, the Chief Financial Officer of the Department of Housing and Urban Development designates the Order of Succession for the Office of Chief Financial Officer.

EFFECTIVE DATE: April 3, 2002.

FOR FURTHER INFORMATION CONTACT: Roger L. Williams, Administrative Officer, Office of the Chief Financial Officer, Department of Housing and Urban Development, Room 2104, 451 7th Street, SW., Washington, DC 20410, (202) 708-0313. (This is not a toll-free number.) This number may be accessed via TTY by calling the Federal Information Relay Service at 1-800-877-8339 (toll-free).

SUPPLEMENTARY INFORMATION: The Chief Financial Officer for the Department of Housing and Urban Development is issuing this Order of Succession of officials authorized to perform the functions and duties of the Office of the Chief Financial Officer when, by reason of absence, disability, or vacancy in office, the Chief Financial Officer is not available to exercise the powers or perform the duties of the office. This Order of Succession is subject to the provisions of the Vacancy Reform Act of 1998, 5 U.S.C. 3345-3349d.

Accordingly, the Chief Financial Officer designates the following Order of Succession:

Section A. Order of Succession

Subject to the provisions of the Vacancy Reform Act of 1998, during any period when, by reason of absence, disability, or vacancy in office, the Chief Financial Officer is not available to exercise the powers or perform the duties of the Chief Financial Officer, the following officials within the Office of the Chief Financial Officer are hereby designated to exercise the powers and perform the duties of the Office:

(1) Deputy Chief Financial Officer;

(2) Assistant Chief Financial Officer for Budget;

(3) Assistant Chief Financial Officer for Accounting:

(4) Assistant Chief Financial Officer for Financial Management.

These officials shall perform the functions and duties of the Office in the order specified herein, and no official shall serve unless all the other officials, whose position titles precede his/hers in this order, are unable to act by reason of absence, disability, or vacancy in office.

Section B. Authority Superseded

This Order of Succession supersedes the Order of Succession for the Office of the Chief Financial Officer, published at 66 FR 23947 (May 3, 2001).

Authority: Sec. 7(d), Department of Housing and Urban Development Act, 42 U.S.C. 3535(d).

Dated: April 3, 2002.
Angela M. Antonelli,
Chief Financial Officer, Department of Housing and Urban Development.

[FR Doc. 02-8778 Filed 4-10-02; 8:45 am]

BILLING CODE 4210-77-P